DEPARTMENT OF HEALTH AND HUMAN SERVICES

Substance Abuse and Mental Health Services Administration

Center for Substance Abuse Treatment; Notice of Meeting

Pursuant to Public Law 92-463, notice is hereby given of the meeting of the Center for Substance Abuse Treatment (CSAT) National Advisory Council in September 14, 2005.

A portion of the meeting will be open and include discussion of the Center's policy issues, and current administrative, legislative, and program developments.

Attendance by the public will be limited to space available. Public comments are welcome. Please communicate with the contact individual listed below to make arrangements to comment or to request special accommodations for persons with disabilities.

Substantive program information and a roster of Council members may be obtained by accessing the SAMHSA Advisory Council Web site (http://www.samhsa.gov) as soon as possible after the meeting, or by communicating with the contact whose name and telephone number are listed below.

Committee Name: Substance Abuse and Mental Health Services Administration Center for Substance Abuse Treatment National Advisory Council Meeting Dates: September 14—9 a.m.-5 p.m.

Place: 1 Choke Cherry Road, Sugar Loaf and Seneca Conference Rooms, Rockville, Maryland 20857.

Type: Open: September 14—9 a.m.-5 p.m.

Contact: Cynthia Graham, M.S., Executive Secretary, SAMHSA/CSAT National Advisory Council, 1 Choke Cherry Road, Room 5-1036, Rockville, MD 20857, Telephone: (240) 276-1692, FAX: (240) 276-1690, E-mail: cynthia.graham@samhsa.hhs.gov.

Dated: August 15, 2005.
Toian Vaughn,
Committee Management Officer, Substance Abuse and Mental Health Services Administration.

[FR Doc. 05-16820 Filed 8-23-05; 8:45 am]

BILLING CODE 4162-20-P